DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA). The purpose of this notice is to announce publicly the environmental decisions by FTA on the subject project and to activate the limitation on any claims that may challenge these final environmental actions.

DATES: By this notice, FTA is advising the public of final agency actions subject to 23 U.S.C. 139(l). A claim seeking judicial review of FTA actions announced herein for the listed public transportation project will be barred unless the claim is filed on or before October 15, 2020.

FOR FURTHER INFORMATION CONTACT: Nancy-Ellen Zusman, Assistant Chief Counsel, Office of Chief Counsel, (312) 353-2577 or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA environmental project file for the project. Interested parties may contact either the project sponsor or the relevant FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) requirements [23 U.S.C. 138, 49 U.S.C. 303], Section 106 of the National Historic Preservation Act [54 U.S.C. 306108], Section 10 of the Rivers and Harbors Act of 1899 [33 U.S.C. 403], Clean Water Act [33 U.S.C. 1251] and the Clean Air Act [42 U.S.C. 7401-7671q]. This notice does not, however, alter or extend the limitation period for challenges of project decisions subject to previous notices published in the Federal Register.

The project and actions that are the subject of this notice follow: Project name and location: NJ Transitgrid Traction Power System Project, Kearny and Jersey City, New Jersey. Project Sponsor: New Jersey Transit Corporation, Newark, New Jersey. Project description: The project consists of a central, natural gas-fired power plant and transmission lines to traction power substations that electrify the tracks and operating controls on portions of the NJ Transit and Amtrak systems, the installation of up to 19.6 miles of new electrical lines, the construction of two new electrical substations in Kearny and Jersey City, NJ, and the installation of emergency generators at HBLR Headquarters in Jersey City, NJ. Final agency action: Section 4(f) individual use determination; executed Section 106 Programmatic Agreement, dated January 16, 2020; NJ Transitgrid Traction Power System Combined Final Environmental Impact Statement (FEIS)/Record of Decision (ROD), dated April 15, 2020. Supporting Documentation: NJ Transitgrid Traction Power System Draft Environmental Impact Statement (DEIS), dated, May 8, 2019. The Combined FEIS/ROD and associated documents can be viewed and downloaded from: https://njtransitresilienceprogram.com/documents/combined-final-environmental-impact-statement-record-of-decision/.

Authority: 23 U.S.C. 139(l)(1).

Mark A. Ferroni,
Deputy Associate Administrator for Planning and Environment.

[FR Doc. 2020-10505 Filed 5-15-20; 8:45 am]

BILLING CODE P